DEPARTMENT OF COMMERCE

International Trade Administration

[A-570-806]

Silicon Metal From the People's Republic of China: Initiation of Antidumping Duty New Shipper Review

AGENCY: Import Administration, International Trade Administration, Department of Commerce.

SUMMARY: The Department of Commerce (the Department) has received a request to conduct a new shipper review of the antidumping duty order on silicon metal from the People's Republic of China (PRC). In accordance with section 751(a)(2)(B) of the Tariff Act of 1930, as amended (the Act), and 19 CFR 351.214(d), we are initiating this new shipper review.

EFFECTIVE DATE: August 7, 2001.

FOR FURTHER INFORMATION CONTACT: Jacqueline Arrowsmith or Maureen Flannery, AD/CVD Enforcement, Import Administration, International Trade Administration, U.S. Department of Commerce, 14th Street and Constitution Avenue, NW., Washington, DC. 20230; telephone: (202) 482-4052 or (202) 482-3020, respectively.

The Applicable Statute and Regulations

Unless otherwise indicated, all citations to the Act are references to the provisions effective January 1, 1995, the effective date of the amendments made to the Act by the Uruguay Round Agreements Act. In addition, unless otherwise indicated, all references to the Department's regulations are to 19 CFR Part 351 (2001).

Background

On June 28, 2001, the Department received a timely request from Groupstars Chemical Company, Ltd. (Groupstars), in accordance with section 751(a)(2)(B) of the Act and 19 CFR 351.214(c), for a new shipper review of the antidumping duty order on silicon metal from the PRC. This order has a June anniversary month. The period of review is, therefore, June 1, 2000 through May 31, 2001.

Initiation of Review

Pursuant to 19 CFR 351.214(b)(2)(i) and 19 CFR 351.214(b)(2)(iii)(A), Groupstars' June 28, 2001 request for a review certified that Groupstars had not exported the subject merchandise to the United States during the period of investigation (POI) and that it had not been affiliated with any company which exported subject merchandise to the United States during the POI. Pursuant to 19 CFR 351.214, Groupstars also certified that its export activities are not controlled by the central government of the PRC. In addition, pursuant to 19 CFR 351.214(b)(2)(iv), Groupstars' request contained documentation establishing: the date the subject merchandise was first shipped to the United States, the volume of that shipment, and the date of the first sale to an unaffiliated customer in the United States.

Therefore, in accordance with section 751(a)(2)(B) of the Act and 19 CFR 351.214(d), we are initiating a new shipper review of the antidumping duty order on silicon metal from the PRC.

It is the Department's usual practice in cases involving non-market economies to require that a company seeking eligibility for a separate rate from the country-wide rate provide de jure and de facto evidence of an absence of government control over the company's export activities. See Certain Preserved Mushrooms from the People's Republic of China: Initiation of New Shipper Antidumping Duty Review, 65 FR 17257 (March 31, 2000). Accordingly, we will issue a separate rates questionnaire to Groupstars. If Groupstars provides sufficient evidence that it is not subject to de jure or de facto government control with respect to its exports of silicon metal, this review will proceed. If, on the other hand, Groupstars does not meet its burden to demonstrate its eligibility for a separate rate, then Groupstars will be deemed to be affiliated with other companies that exported during the POI and that did not establish entitlement to a separate rate. This review will then be terminated due to failure of the exporter or producer to meet the requirements of section 751(a)(2)(B)(i)(II) of the Act and 19 CFR 351.214(b)(2)(iii)(B).

Pursuant to 19 CFR 351.214 (g)(1)(i)(A) of the Department's regulations, the POR for a new shipper review initiated in the month immediately following the anniversary month will be the twelve-month period immediately preceding the anniversary month. Therefore, the POR for this review is June 1, 2000 through May 31, 2001.

Concurrent with the publication of this initiation notice, and in accordance with 19 CFR 351.214(e), effective on the date of publication of this notice, we will instruct the U.S. Customs Service to allow, at the option of the importer, the posting of a bond or security in lieu of a cash deposit for each entry of the subject merchandise exported by the company named above, until the completion of the review.

Interested parties may submit applications for disclosure of business proprietary information under administrative protective order in accordance with 19 CFR 351.305 and 351.306.

This initiation and notice are in accordance with section 751(a) of the Act (19 U.S.C. 1675(a)) and 19 CFR 351.214.

Dated: July 31, 2001.
Joseph A. Spetrini,
Deputy Assistant Secretary AD/CVD Enforcement Group III.

[FR Doc. 01-19778 Filed 8-7-01; 8:45 am]

BILLING CODE 3510-DS-P